DEPARTMENT OF VETERANS AFFAIRS

38 CFR Part 74

RIN 2900-AM78

VA Veteran-Owned Small Business Verification Guidelines; Correction

AGENCY: Department of Veterans Affairs.

ACTION: Correcting amendment.

SUMMARY: VA published two documents in the Federal Register, an interim final rule on May 19, 2008 (73 FR 29024) and a final rule on February 8, 2010 (75 FR 6098), which implement portions of the Veterans Benefits, Health Care, and Information Technology Act of 2006. Both documents contain a typographical error in a cross reference citation. This document corrects that error.

DATES: Effective Date: This correction is effective December 23, 2010.

FOR FURTHER INFORMATION CONTACT: Dennis Foley, Deputy Assistant General Counsel (025), Department of Veterans Affairs, 810 Vermont Avenue, NW., Washington, DC 20420, (202) 461-4998. (This is not a toll-free number.)

SUPPLEMENTARY INFORMATION: VA published two documents in the Federal Register, an interim final rule on May 19, 2008 (73 FR 29024) and a final rule on February 8, 2010 (75 FR 6098), which implement portions of the Veterans Benefits, Health Care, and Information Technology Act of 2006. The regulatory text of § 74.4(c)(4) and (f)(2) contains a typographical error. This document corrects the typographical error by removing “(d)(1)” and adding, in each place, “(f)(1)”.

List of Subjects in 38 CFR Part 74

Administrative practice and procedures, Privacy, Reporting and recordkeeping requirements, Small business, Veteran, Veteran-owned small business, Verification.

William F. Russo,
Director of Regulations Management, Office of the General Counsel, Department of Veterans Affairs.

For the reason set out in the preamble, VA is correcting 38 CFR part 74 as follows.

PART 74—VETERANS SMALL BUSINESS REGULATIONS

1. The authority citation for part 74 continues to read as follows:

Authority: 38 U.S.C. 501, 513, and as noted in specific sections.

§ 74.4 [Corrected]

2. Amend § 74.4 as follows:

a. In paragraph (c)(4), remove “(d)(1)” and add, in its place, “(f)(1)”.

b. In paragraph (f)(2) introductory text, remove “(d)(1)” and add, in its place, “(f)(1)”.

[FR Doc. 2010-32226 Filed 12-22-10; 8:45 am]

BILLING CODE 8320-01-P